OFFICE OF MANAGEMENT AND BUDGET

Public Availability of Fiscal Year 2004 Agency Inventories Under the Federal Activities Inventory Reform Act of 1998 (Pub. L. 105-270) (“FAIR Act”)

AGENCY: Office of Management and Budget, Executive Office of the President.

ACTION: Notice of public availability of agency inventory of activities that are not inherently governmental and of activities that are inherently governmental.

SUMMARY: In accordance with the FAIR Act, agency inventories of activities that are not inherently governmental are now available to the public from the agencies listed below. The FAIR Act requires that OMB publish an announcement of public availability of agency inventories of activities that are not inherently governmental upon completion of OMB's review and consultation process concerning the content of the agencies' inventory submissions. After review and consultation with OMB, agencies make their inventories available to the public, and these inventories also include activities that are inherently governmental. This is the fourth and final release of the FAIR Act inventories for FY 2004. Interested parties who disagree with the agency's initial judgment can challenge the inclusion or the omission of an activity on the list of activities that are not inherently governmental within 30 working days and, if not satisfied with this review, may demand a higher agency review/appeal.

The Office of Federal Procurement Policy has made available a FAIR Act User's Guide through its Internet site: http://www.whitehouse.gov/omb/procurement/fair-index.html. This User's Guide will help interested parties review FY 2004 FAIR Act inventories, and gain access to agency inventories through agency Web site addresses.

Joshua B. Bolten,
Director.

Fourth Fair Act Release FY 2004
Advisory Council on Historic Preservation | Mr. Ralston Cox, (202) 606-8528, http://www.achp.gov.
Department of Agriculture | Ms. Ava Lee, (202) 720-1179, http://www.usda.gov
Department of Agriculture (IG) | Mr. Delmas R. Thornsbury, (202) 720-4474, http://www.usda.gov/oig/rptsbulletins.htm.
Department of Homeland Security | Mr. David Childs, (202) 772-9785, http://www.dhs.gov/dhspublic/display?theme=37&content=3933.
Department of Veterans Affairs | Mr. Scott Holiday, (202) 273-5053, http://www.va.gov.
Federal Communications Commission | Mr. Kent Baum (202) 418-0137, http://www.fcc.gov.
Inter-American Foundation | Ms. Linda Kolko, (703) 306-4308, http://www.iaf.gov.
Marine Mammal Commission | Mr. David Cottingham, (301) 504-0087, http://www.mmc.gov.
Merit Systems Protection Board | Ms. Deborah Miron, (202) 653-6772 x1168, http://www.mspb.gov.
Morris K. Udall Foundation | Mr. Christopher Helms, (520) 670-5530, http://www.udall.gov.
Office of Federal Housing Enterprise Oversight | Ms. Jill Weide, (202) 414-3813, http://www.ofheo.gov.
Office of Management and Budget | Ms. Lauren Wright, (202) 395-3970, http://www.whitehouse.gov/omb/procurement/fair/notices_avail.html.
Securities and Exchange Commission | Ms. Jayne Seidman, (202) 942-4000, http://www.sec.gov.
Selective Service System | Mr. Calvin Montgomery, (703) 605-4038, http://www.sss.gov.

[FR Doc. 05-8775 Filed 5-2-05; 8:45 am]

BILLING CODE 3110-01-P